DEPARTMENT OF COMMERCE

National Oceanic and Atmospheric Administration

Agency Information Collection Activities; Submission to the Office of Management and Budget (OMB) for Review and Approval; Comment Request; West Coast Region Groundfish Trawl Fishery Electronic Monitoring Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 15, 2025.

ADDRESSES: Interested persons are invited to submit written comments to Adrienne Thomas, NOAA PRA Officer, at NOAA.PRA@noaa.gov. Please reference OMB Control Number 0648-0785 in the subject line of your comments. All comments received are part of the public record and will generally be posted on https://www.regulations.gov without change. Do not submit Confidential Business Information or otherwise sensitive or protected information.

FOR FURTHER INFORMATION CONTACT: Requests for additional information or specific questions related to collection activities should be directed to Keeley Kent, Branch Chief, NOAA, 7600 Sand Point Way NE, Seattle, WA 98115-6349, (206) 526-4655, keeley.kent@noaa.gov.

SUPPLEMENTARY INFORMATION:

I. Abstract

This is a request for the renewal of an approved information collection. Under the authority of the Magnuson-Stevens Fishery Conservation and Management Reauthorization Act (16 U.S.C. 1801 et seq.), the Pacific coast groundfish fishery is managed under the Pacific Coast Groundfish Fishery Management Plan (FMP) by the National Marine Fisheries Service West Coast Region. One sector of the groundfish fishery has limited entry permits endorsed for trawl gear and is managed under a catch share program. The catch share program implemented requirements for 100-percent observer coverage at-sea and dockside to ensure full accountability for catch of allocated species and a level playing field for all participants. To provide a cost-effective alternative to human observer coverage, vessels may choose to use electronic monitoring (EM). EM uses video cameras and integrated sensors (e.g., GPS, motion sensor, hydraulic pressure sensor) to passively monitor fishing activity at-sea. The video and sensor data can be reviewed after the trip by an analyst onshore to collect information about location and amount of catch and fishing effort. EM has the potential to reduce monitoring costs because it does not require deploying a person on the vessel and the logistical and travel expenses that generates.

This information collection includes a permit application and associated documents for EM service provider companies, a permit application and associated documents for vessels participating in EM, and a logbook and video hard drive submissions for participating vessels. The information is used to allow vessels to utilize EM in lieu of the 100% human observer requirement and for fishery catch accounting to occur according to regulations in place at 50 CFR 660 subpart J.

II. Method of Collection

Paper format, electronic (internet), email, fax.

III. Data

OMB Control Number: 0648-0785.

Form Number(s): None.

Type of Review: Regular submission [extension of a current information collection].

Affected Public: Individuals or households; Business or other for-profit organizations; Not-for-profit institutions.

Estimated Number of Respondents: 200.

Estimated Time per Response: Vessel Owners: Initial Application 0.5 hr., Final Application 8 hrs., VMP 1 hr., Renewal 0.5 hr., EM System Maintenance 0 minutes, SE Agreement 3 hrs., and Appeal 1 hour. Vessel Operators: Captain Training 1.5 hrs., Logbooks 10 minutes, and Submission 10 minutes. EM Service Provider: Initial Application 15 hrs., Application Two 0.16 hr., Appeal 1.3 hrs., EMSP 2 hrs., Renewal 0.4 hr., Certification 30 minutes, Reports 0.25 hr., Debriefing 1.2 hrs.

Estimated Total Annual Burden Hours: 5,123 hours.

Estimated Total Annual Cost to Public: $1,036,067.

Respondent's Obligation: Required to Obtain or Retain Benefits.

Legal Authority: Magnuson-Stevens Fishery Conservation and Management Reauthorization Act (16 U.S.C. 1801 et seq.), 50 CFR part 660, subpart J.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-10996 Filed 6-13-25; 8:45 am]

BILLING CODE 3510-22-P